INTERNATIONAL TRADE COMMISSION

[Investigation Nos. 701-TA-489 and 731-TA-1201 (Second Review)]

Drawn Stainless Steel Sinks From China

Determinations

On the basis of the record ¹ developed in the subject five-year reviews, the United States International Trade Commission (“Commission”) determines, pursuant to the Tariff Act of 1930 (“the Act”), that revocation of the countervailing duty order on drawn stainless steel sinks from China and the antidumping duty order on drawn stainless steel sinks from China would be likely to lead to continuation or recurrence of material injury to an industry in the United States within a reasonably foreseeable time.

¹ The record is defined in § 207.2(f) of the Commission's Rules of Practice and Procedure (19 CFR 207.2(f)).

Background

The Commission instituted these reviews on July 3, 2023 (88 FR 42688) and determined on October 6, 2023 that it would conduct expedited reviews (88 FR 80762, November 20, 2023).

The Commission made these determinations pursuant to section 751(c) of the Act (19 U.S.C. 1675(c)). It completed and filed its determinations in these reviews on February 1, 2024. The views of the Commission are contained in USITC Publication 5489 (February 2024), entitled Drawn Stainless Steel Sinks from China: Investigation Nos. 701-TA-489 and 731-TA-1201 (Second Review).

By order of the Commission.
Issued: February 2, 2024.
Lisa Barton,
Secretary to the Commission.

[FR Doc. 2024-02458 Filed 2-6-24; 8:45 am]

BILLING CODE 7020-02-P